NUCLEAR REGULATORY COMMISSION

Notice of Issuance of Regulatory Guide

AGENCY: Nuclear Regulatory Commission.

ACTION: Notice of Issuance and Availability of Regulatory Guide 6.1, Revision 2.

FOR FURTHER INFORMATION CONTACT: Mark Orr, Regulatory Guide Development Branch, Division of Engineering, Office of Nuclear Regulatory Research, U.S. Nuclear Regulatory Commission, Washington, DC 20555-0001, telephone (301) 415-6373 or e-mail to Mark.Orr@nrc.gov.

SUPPLEMENTARY INFORMATION:

I. Introduction

The U.S. Nuclear Regulatory Commission (NRC) has issued revisions to existing guides in the agency's “Regulatory Guide” series. This series was developed to describe and make available to the public information such as methods that are acceptable to the NRC staff for implementing specific parts of the agency's regulations, techniques that the staff uses in evaluating specific problems or postulated accidents, and data that the staff needs in its review of applications for permits and licenses.

Revision 2 of Regulatory Guide 6.1, “Leak Testing Radioactive Brachytherapy Sources,” was issued with a temporary identification as Draft Regulatory Guide DG-6003. This guide directs the reader to methods and procedures acceptable to the staff of the NRC for leak testing radioactive brachytherapy sources. Possession and use of brachytherapy sources is an activity requiring a license pursuant to Title 10, section 30.3, “Activities Requiring License,” of the Code of Federal Regulations (10 CFR 30.3). The requirements in 10 CFR 35.67, “Requirements for Possession of Sealed Sources and Brachytherapy Sources,” state in part, that the sources are to be periodically leak tested and that the test be capable of detecting the presence of 185 becquerel (Bq) (0.005 microcurie (μCi)) of radioactive material in the sample. The regulations also require that the source be immediately withdrawn from use if the test reveals the presence of 185 Bq (0.005 μCi) or more of removable contamination.

This regulatory guide endorses the methods and procedures for leak testing radioactive brachytherapy sources contained in the current revisions of NUREG-1556, Volume 3, “Consolidated Guidance about Materials Licenses: Applications for Sealed Source and Device Evaluation and Registration” and NUREG-1556, Volume 9, “Consolidated Guidance about Materials Licenses: Program-Specific Guidance about Medical Use Licenses” as a process that the NRC staff has found to be acceptable for meeting the regulatory requirements.

II. Further Information

In January 2008, DG-6003 was published with a public comment period of 60 days from the issuance of the guide. No comments were received and the public comment period closed April 18, 2008. Electronic copies of Regulatory Guide 6.1, Revision 2 are available through the NRC's public Web site under “Regulatory Guides” at http://www.nrc.gov/reading-rm/doc-collections/.

In addition, regulatory guides are available for inspection at the NRC's Public Document Room (PDR), which is located at Room O-1F21, One White Flint North, 11555 Rockville Pike, Rockville, Maryland 20852-2738. The PDR's mailing address is USNRC PDR, Washington, DC 20555-0001. The PDR can also be reached by telephone at (301) 415-4737 or (800) 397-4209, by fax at (301) 415-3548, and by e-mail to pdr@nrc.gov.

Regulatory guides are not copyrighted, and NRC approval is not required to reproduce them.

Dated at Rockville, Maryland, this 3rd day of July, 2008.
For the Nuclear Regulatory Commission.
Stephen C. O'Connor,
Acting Chief, Regulatory Guide Development Branch, Division of Engineering, Office of Nuclear Regulatory Research.

[FR Doc. E8-15794 Filed 7-10-08; 8:45 am]

BILLING CODE 7590-01-P